DEPARTMENT OF HEALTH AND HUMAN SERVICES

Centers for Disease Control and Prevention

Meetings of the Advisory Committee for Injury Prevention and Control, and its Subcommittee, the Science and Program Review Subcommittee

In accordance with Section 10(a)(2) of the Federal Advisory Committee Act (Pub. L. 92-463), the Centers for Disease Control and Prevention (CDC) announces the following subcommittee and committee meetings.

Name: Science and Program Review Subcommittee (SPRS).

Time and Date: 8:30 a.m.-11:30 a.m., January 30, 2007.

Place: Crowne Plaza Hotel Buckhead, 3377 Peachtree Road, NE., Atlanta, GA 30326.

Status: Open: 8:30 a.m.-11:30 a.m., January 30, 2007.

Purpose: The SPRS provides advice on the needs, structure, progress and performance of programs of the National Center for Injury Prevention and Control (NCIPC).

Matters To Be Discussed: The subcommittee will meet January 30, 2007, to provide recommendations on updating and modifying the Injury Research Agenda.

Agenda items are subject to change as priorities dictate.

Name: Advisory Committee for Injury Prevention and Control (ACIPC).

Times and Dates: 1 p.m.-5:30 p.m., January 30, 2007, 9 a.m.-12 p.m., January 31, 2007.

Place: Crowne Plaza Hotel Buckhead, 3377 Peachtree Road, NE., Atlanta, GA 30326.

Status: Open: 1 p.m.-5:30 p.m., January 30, 2007. Open: 9 a.m.-12 p.m., January 31, 2007.

Purpose: The committee advises and makes recommendations to the Secretary, Department of Health and Human Services, the Director, CDC, and the Director, NCIPC regarding feasible goals for the prevention and control of injury. The committee makes recommendations regarding policies, strategies, objectives, and priorities, and reviews progress toward injury prevention and control.

Matters To Be Discussed: The meeting will be open to the public. The ACIPC will be discussing three areas of focus and how the ACIPC can advance the field of injury prevention and control.

Agenda items are subject to change as priorities dictate.

Contact Person for More Information: Ms. Amy Harris, Executive Secretary, ACIPC, NCIPC, CDC, 4770 Buford Highway, NE., M/S K61 Atlanta, Georgia 30341-3724, telephone (770) 488-4936.

The Director, Management Analysis and Services Office, has been delegated the authority to sign Federal Register notices pertaining to announcements of meetings and other committee management activities, for both CDC and the Agency for Toxic Substances and Disease Registry.

Dated: December 22, 2006.
Elaine Baker,
Acting Director, Management Analysis and Services Office, Centers for Disease Control and Prevention.

[FR Doc. E6-22471 Filed 12-29-06; 8:45 am]

BILLING CODE 4163-18-P